DEPARTMENT OF HOUSING AND URBAN DEVELOPMENT

24 CFR Part 291

[Docket No. FR-4712-C-04]

RIN 2502-AH72

Good Neighbor Next Door Sales Program; Technical Correction

AGENCY: Office of the Assistant Secretary for Housing—Federal Housing Commissioner, HUD.

ACTION: Technical correction.

SUMMARY: This document makes a correction to HUD's November 1, 2006, final rule establishing regulations for the Good Neighbor Next Door (GNND) Sales Program. It has come to HUD's attention that the regulatory text of the November 1, 2006, final rule contained a typographical error regarding properties available for sale under the GNND Sales Program. The purpose of this document is to make the necessary correction.

DATES: Effective Date: January 11, 2008.

FOR FURTHER INFORMATION CONTACT: Ivery W. Himes, Director, Asset Management and Disposition Division, Office of Single Family Asset Management, Department of Housing and Urban Development, 451 Seventh Street, SW., Room 9172, Washington, DC 20410-8000; telephone (202) 708-1672 (this is not a toll-free number). Hearing- or speech-impaired individuals may access this number through TTY by calling the toll-free Federal Information Relay Service at (800) 877-8339.

SUPPLEMENTARY INFORMATION:

I. Background

On November 1, 2006 (71 FR 64422), HUD published a final rule establishing regulations for the Good Neighbor Next Door (GNND) Sales Program. The GNND Sales Program seeks to improve the quality of life in distressed urban communities by encouraging law enforcement officers, teachers, and firefighters/emergency medical technicians, whose daily responsibilities and duties reflect a high level of public service commitment and represent a nexus to the needs of the community, to purchase and live in homes in these communities. The November 1, 2006, final rule, codified the GNND Sales Program regulations at 24 CFR part 291, subpart F.

II. Need for Correction

It has come to HUD's attention that the regulatory text of the November 1, 2006, final rule contained a typographical error regarding properties available for sale under the GNND Sales Program. The preamble to the final rule correctly makes clear that occupied properties, properties located in Asset Control Areas, and properties that HUD determines will be sold through an alternative sales method will not be made available for purchase under the GNND Sales Program (see 61 FR 64422, third column). However, due to typographical error regarding the closing of a parenthetical, § 291.510(b) of the regulatory text (entitled “Eligible properties”) incorrectly provides that:

Under the GNND Sales Program, single-unit properties acquired by HUD located in HUD-designated revitalization areas (except occupied properties), those located in Asset Control Areas, or those that HUD has determined will be sold through an alternative sales method will be made available to interested law enforcement officers, teachers, and firefighters/emergency medical technicians prior to listing the properties for sale to other purchasers.

Rather than ending after the phrase “occupied properties,” the parenthetical should close at the end of the list of excluded properties after the phrase “those that HUD has determined will be sold through an alternative sales method.” The purpose of this document is to make the necessary correction to § 291.510(b).

List of Subjects in 24 CFR Part 291

Community facilities, Conflict of interests, Homeless, Lead poisoning, Low and moderate income housing, Mortgages, Reporting and recordkeeping requirements, Surplus government property.

Accordingly, 24 CFR part 291 is corrected by making the following correcting amendment:

PART 291—DISPOSITION OF HUD-ACQUIRED SINGLE FAMILY PROPERTY

1. The authority citation for 24 CFR part 291 continues to read as follows:

Authority: 12 U.S.C. 1701 et seq.; 42 U.S.C. 1441, 1441a, 1551a, and 3535(d).

2. Revise § 291.510(b) to read as follows:

§ 291.510 Overview of the GNND Sales Program.

* * * * *

(b) Eligible properties. Under the GNND Sales Program, single-unit properties acquired by HUD located in HUD-designated revitalization areas (except occupied properties, those located in Asset Control Areas, or those that HUD has determined will be sold through an alternative sales method) will be made available to interested law enforcement officers, teachers, and firefighters/emergency medical technicians prior to listing the properties for sale to other purchasers.

* * * * *

Dated: January 3, 2008.
Brian D. Montgomery,
Assistant Secretary for Housing—Federal Housing Commissioner.

[FR Doc. E8-355 Filed 1-10-08; 8:45 am]

BILLING CODE 4210-67-P